SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: June 1-30, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f)(13) and 18 CFR 806.22(f) for the time period specified above:

Water Source Approval—Issued Under 18 CFR 806.22(f):

1. Rockdale Marcellus, LLC; Pad ID: Red Run Mountain 736; ABR-20100502.R2; McIntyre Township, Lycoming County, Pa.; Consumptive Use of Up to 4.0000 mgd; Approval Date: June 9, 2020.

2. Repsol Oil & Gas USA, LLC; Pad ID: Chicken Hawk; ABR-20100434.R2; Sullivan Township, Tioga County, Pa.; Consumptive Use of Up to 6.0000 mgd; Approval Date: June 9, 2020.

3. Repsol Oil & Gas USA, LLC; Pad ID: STORCH (03 035) D; ABR-20100445.R2; Wells Township, Bradford County, Pa.; Consumptive Use of Up to 6.0000 mgd; Approval Date: June 9, 2020.

4. EXCO Resources (PA), LLC.; Pad ID: Warner Drilling Pad #1; ABR-20100451; Franklin Township, Lycoming County, Pa.; Consumptive Use of Up to 2.0000 mgd; Approval Date: June 9, 2020.

5. SWN Production Company, LLC; Pad ID: NR-25 NOWICKI; ABR-201504006.R1; Oakland Township, Susquehanna County, Pa.; Consumptive Use of Up to 4.9990 mgd; Approval Date: June 9, 2020.

6. SWN Production Company, LLC.; Pad ID: NR-05 BAC Realty; ABR-201504007.R2; New Milford Township, Susquehanna County, Pa.; Consumptive Use of Up to 4.9990 mgd; Approval Date: June 11, 2020.

7. SWEPI LP.; Pad ID: Johnson 434; ABR-20100501.R2; Shippen Township, Tioga County, Pa.; Consumptive Use of Up to 4.0000 mgd; Approval Date: June 11, 2020.

8. SWN Production Company, LLC.; Pad ID: GU-Y Loomis Pad; ABR-20100504.R2; Rush Township, Susquehanna County, Pa.; Consumptive Use of Up to 4.0000 mgd; Approval Date: June 12, 2020.

9. Chesapeake Appalachia, L.L.C.; Pad ID: Coates; ABR-20100509.R2; Standing Stone Township, Bradford County, Pa.; Consumptive Use of Up to 7.5000 mgd; Approval Date: June 12, 2020.

10. Chief Oil & Gas, LLC; Pad ID: Kerr Drilling Pad #1; ABR-20100506.R2; Lathrop Township, Susquehanna County, Pa.; Consumptive Use of Up to 2.0000 mgd; Approval Date: June 15, 2020.

11. Range Resources Appalachia, LLC; Pad ID: Dog Run Hunting Club Unit; ABR-20100456.R2; Cummings Township, Lycoming County, Pa.; Consumptive Use of Up to 2.0000 mgd; Approval Date: June 15, 2020.

12. Chesapeake Appalachia, L.L.C.; Pad ID: Fred; ABR-201005241.R2; Leroy Township, Bradford County, Pa.; Consumptive Use of Up to 7.5000 mgd; Approval Date: June 24, 2020.

13. Chesapeake Appalachia, L.L.C.; Pad ID: McConnell; ABR-20100525.R2; Overton Township, Bradford County, Pa.; Consumptive Use of Up to 7.5000 mgd; Approval Date: June 24, 2020.

14. Cabot Oil & Gas Corporation; Pad ID: HousenickJ P1; ABR-201505004.R1; Rush Township, Susquehanna County, Pa.; Consumptive Use of Up to 5.0000 mgd; Approval Date: June 24, 2020.

15. SWN Production Company, LLC; Pad ID: RU-42-KROPFF-PAD; ABR-201410002.R1; Jackson Township, Susquehanna County, Pa.; Consumptive Use of Up to 4.9990 mgd; Approval Date: June 29, 2020.

16. Seneca Resources Company, LLC; Pad ID: Gamble Pad P; ABR-201506005.R1; Hepburn Township, Lycoming County, Pa.; Consumptive Use of Up to 4.0000 mgd; Approval Date: June 29, 2020.

17. Chesapeake Appalachia, L.L.C.; Pad ID: Brackman; ABR-20100420.R2; Leroy Township, Bradford County, Pa.; Consumptive Use of Up to 7.5000 mgd; Approval Date: June 29, 2020.

18. Chief Oil & Gas, LLC; Pad ID: Squier Drilling Pad #1; ABR-201007008.R2; Springville Township, Susquehanna County, Pa.; Consumptive Use of Up to 2.0000 mgd; Approval Date: June 29, 2020.

19. Cabot Oil & Gas Corporation; Pad ID: WarrinerR P2; ABR-20100518.R1; Dimock Township, Susquehanna County, Pa.; Consumptive Use of Up to 5.0000 mgd; Approval Date: June 29, 2020.

20. Cabot Oil & Gas Corporation; Pad ID: CarsonJ P1; ABR-20100520.R1; Springville Township, Susquehanna County, Pa.; Consumptive Use of Up to 5.0000 mgd; Approval Date: June 29, 2020.

21. SWEPI LP; Pad ID: Walker 438; ABR-20100516.R2; Shippen Township, Tioga County, Pa.; Consumptive Use of Up to 4.0000 mgd; Approval Date: June 29, 2020.

22. XPR Resources, LLC; Pad ID: Alder Run Land LP #2H; ABR-20100454.R2; Cooper Township, Clearfield County, Pa.; Consumptive Use of Up to 2.0000 mgd; Approval Date: June 29, 2020.

23. Chesapeake Appalachia, L.L.C.; Pad ID: Cerca; ABR-20100538.R2; Wyalusing Township, Bradford County, Pa.; Consumptive Use of Up to 7.5000 mgd; Approval Date: June 30, 2020.

24. Chesapeake Appalachia, L.L.C.; Pad ID: Treat; ABR-20100527.R2; Rome Township, Bradford County, Pa.; Consumptive Use of Up to 7.5000 mgd; Approval Date: June 30, 2020.

25. Chesapeake Appalachia, L.L.C.; Pad ID: Feusner New; ABR-20100558.R2; Litchfield Township, Bradford County, Pa.; Consumptive Use of Up to 7.5000 mgd; Approval Date: June 30, 2020.

26. Chesapeake Appalachia, L.L.C.; Pad ID: Madden; ABR-20100536.R2; Asylum Township, Bradford County, Pa.; Consumptive Use of Up to 7.5000 mgd; Approval Date: June 30, 2020.

27. Chesapeake Appalachia, L.L.C.; Pad ID: Rich; ABR-20100539.R2; Troy Township, Bradford County, Pa.; Consumptive Use of Up to 7.5000 mgd; Approval Date: June 30, 2020.

28. Chesapeake Appalachia, L.L.C.; Pad ID: Allen; ABR-20100606.R2; Wysox Township, Bradford County, Pa.; Consumptive Use of Up to 7.5000 mgd; Approval Date: June 30, 2020.

29. Chesapeake Appalachia, L.L.C.; Pad ID: Finnerty; ABR-20100602.R2; West Burlington Township, Bradford County, Pa.; Consumptive Use of Up to 7.5000 mgd; Approval Date: June 30, 2020.

30. Chesapeake Appalachia, L.L.C.; Pad ID: Hilltop NEW; ABR-201006102.R2; Jessup Township, Susquehanna County, Pa.; Consumptive Use of Up to 7.5000 mgd; Approval Date: June 30, 2020.

31. Chesapeake Appalachia, L.L.C.; Pad ID: Akita NEW; ABR-20100689.R2; Smithfield Township, Bradford County, Pa.; Consumptive Use of Up to 7.5000 mgd; Approval Date: June 30, 2020.

32. Chesapeake Appalachia, L.L.C.; Pad ID: Alderfer NEW; ABR-20100671.R2; Litchfield Township, Bradford County, Pa.; Consumptive Use of Up to 7.5000 mgd; Approval Date: June 30, 2020.

33. Chesapeake Appalachia, L.L.C.; Pad ID: Lillie NEW; ABR-201006104.R2; Herrick Township, Bradford County, Pa.; Consumptive Use of Up to 7.5000 mgd; Approval Date: June 30, 2020.

34. Rockdale Marcellus, LLC; Pad ID: Greenwood Hunting Lodge 427; ABR-20100532.R2; McIntyre Township, Lycoming County, Pa.; Consumptive Use of Up to 4.0000 mgd; Approval Date: June 30, 2020.

35. Seneca Resources Company, LLC; Pad ID: PHC Pad Q; ABR-20100551.R2; Lawrence Township, Clearfield County, Pa.; Consumptive Use of Up to 4.0000 mgd; Approval Date: June 30, 2020.

36. Chief Oil & Gas, LLC; Pad ID: Severcool Drilling Pad #1; ABR-20100547.R2; Forkston Township, Wyoming County, Pa.; Consumptive Use of Up to 2.0000 mgd; Approval Date: June 30, 2020.

Authority: Pub. L. 91-575, 84 Stat. 1509 et seq., 18 CFR parts 806, 807, and 808.

Dated: July 14, 2020.
Jason E. Oyler,
General Counsel and Secretary to the Commission.

[FR Doc. 2020-15519 Filed 7-16-20; 8:45 am]

BILLING CODE 7040-01-P